DEPARTMENT OF AGRICULTURE

Rural Utilities Service

Information Collection Activity; Comment Request

AGENCY: Rural Utilities Service, USDA.

ACTION: Notice and request for comments.

SUMMARY: In accordance with the Paperwork Reduction Act of 1995, the United States Department of Agriculture's (USDA) Rural Utilities Service (RUS) invites comments on this information collection for which the Agency intends to request approval from the Office of Management and Budget (OMB).

DATES: Comments on this notice must be received by June 17, 2019.

FOR FURTHER INFORMATION CONTACT: Thomas Dickson, Rural Development Innovation Center—Regulatory Team, U.S. Department of Agriculture, 1400 Independence Avenue SW, STOP 1522, Washington, DC 20250, Telephone: 202-690-4492, email: thomas.dickson@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB as a revision to an existing collection. Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Thomas Dickson, Rural Development Innovation Center—Regulatory Team, U.S. Department of Agriculture, 1400 Independence Avenue SW, STOP 1522, Washington, DC 20250, Telephone: 202-690-4492, email: thomas.dickson@usda.gov.

Title: Operating Reports for Telecommunications and Broadband Borrowers.

OMB Control Number: 0572-0031.

Type of Request: Extension of a currently approved collection.

Abstract: Rural Utilities Service (RUS), an agency delivering the U.S. Department of Agriculture (USDA) utilities programs, is a credit agency. RUS makes mortgage loans and loan guarantees to finance electric, broadband, telecommunications, and water and waste facilities in rural areas. In addition to providing loans and loan guarantees, one of the Agency's main objectives is to safeguard loan security until the loan is repaid. This collection of information covers the Telecommunications Operating Report, the Broadband Operating Report, and RUS Form 674, “Certificate of Authority to Submit or Grant Access to Data.” The data collected via the Telecommunications Operating Report is collected through the USDA Data Collection System. The data collected via the Broadband Operating Report is collected through the USDA Broadband Collection and Analysis System. The data collected via the Telecommunication and Broadband Operating reports is required by the loan contract and provides Rural Development with vital financial information necessary to ensure the maintenance of the security for the Government's loans, and statistical data to enable the Agency to ensure the provision of quality telecommunications and broadband services as mandated by the Rural Electrification Act (RE Act) of 1936. The data collected through the operating reports provides financial information to ensure loan security consistent with due diligence and is essential to protect loan security. The data collected via RUS Form 674 provides information to the Agency to allow Rural Development Electric, Telecommunications and Broadband program Borrowers to file electronic Operating Reports with the Agency using the USDA Data Collection System. RUS Form 674, accompanied by a Board Resolution, identifies the name and USDA eAuthentication ID for a certifier and security administrator who will have access to the USDA Data Collection System for purposes of filing electronic Operating Reports. The information collected on the RUS Form 674 is submitted in hard copy by Borrowers only when revisions are required or, in the case of a first time Borrower, when initially submitting the data.

Estimate of Burden: Public reporting for this collection of information is estimated to average 4.7 hours per response.

Respondents: Business or other for-profits and not-for-profit Institutions.

Estimated Number of Respondents: 580.

Estimated Number of Responses per Respondent: 2.26.

Estimated Total Annual Burden on Respondents: 6296 hours.

Copies of this information collection can be obtained from MaryPat Daskal, Rural Development Innovation Center—Regulations Team, Telephone: (202) 720-7853, Email: MaryPat.Daskal@usda.gov. All responses to this notice will be summarized and included in the request for OMB approval. All comments will also become a matter of public record.

Chad Rupe,
Acting Administrator, Rural Utilities Service.

[FR Doc. 2019-07806 Filed 4-17-19; 8:45 am]

BILLING CODE P